DEPARTMENT OF VETERANS AFFAIRS

[OMB Control No. 2900-0319]

Agency Information Collection Activity Under OMB Review: Fiduciary Agreement

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0319.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0319” in any correspondence.

SUPPLEMENTARY INFORMATION:

Authority: 38 U.S.C. 5502.

Title: Fiduciary Agreement.

OMB Control Number: 2900-0319.

Type of Review: Revision of a currently approved collection.

Abstract: VA Form 21P-4703 is primarily used as a legal contract between the VA and a federal fiduciary. The form outlines the roles and responsibilities of the fiduciary concerning the use of VA funds. Without this agreement, disbursement of funds to the fiduciary would not be possible. This is a revision of a currently approved collection as the respondent burden has decreased.

An agency may not conduct or sponsor, and a person is not required to respond to a collection of information unless it displays a currently valid OMB control number. The Federal Register Notice with a 60-day comment period soliciting comments on this collection of information was published at 89 FR 8279 on February 6, 2024, pages 8279 and 8280.

Affected Public: Individuals or households.

Estimated Annual Burden: 110 hours.

Estimated Average Burden per Respondent: 5 minutes.

Frequency of Response: One time.

Estimated Number of Respondents: 1,331.

By direction of the Secretary.
Maribel Aponte,
VA PRA Clearance Officer, Office of Enterprise and Integration, Data Governance Analytics, Department of Veterans Affairs.

[FR Doc. 2024-07854 Filed 4-12-24; 8:45 am]

BILLING CODE 8320-01-P